DEPARTMENT OF THE INTERIOR

Bureau of Land Management

[ID-095-1150-CB; IDI-26978; DBG-03-0005]

Emergency Closure of Public Lands to All Public Access of Every Kind Within the Boundary of the Orchard Plant Material Research and Test Site, Ada County, ID

AGENCY: Bureau of Land Management, Interior.

ACTION: Notice of emergency closure.

SUMMARY: The subject lands are being closed to protect valuable vegetative projects from destruction and demise as a result of malicious vandalism, grazing trespass, and offroad travel through project sites. Access to and entering upon public lands administered by BLM on the NE¼, NE¼NW¼, NE¼SE¼ Section 20; T. 1 S., R. 4 E., Ada County, Idaho is hereby prohibited. The emergency access closure is intended to protect plant research and test plots from further degradation and demise. The closure may be rescinded at anytime if in the judgment of the authorized officer it is not needed. Exceptions to this closure may include agency personnel for administrative, research and emergency purposes.

Definitions: (a) “Public lands” means any lands or interests in lands owned by the United States and administered by the Secretary of the Interior through the Bureau of Land Management. (b) “Authorized Officer” means any employee of the Bureau of Land Management who has been delegated the authority to perform the duties described in this order. (c) “Emergency purposes” means any fire or law enforcement persons entry for emergency purposes. (d) “Administrative and research purposes” refers to any employee, agent or designated representative of the federal government, or one of its contractors, in the course of their employment or agency entry for administration and research purposes.

EFFECTIVE DATE: This Emergency Access Order is effective immediately through May 7, 2008.

FOR FURTHER INFORMATION CONTACT: Daryl Albiston, Four Rivers Field Manager, Lower Snake River District Office, 3948 Development Avenue, Boise, Idaho, 83705, (208) 384-3430.

SUPPLEMENTARY INFORMATION: This emergency closure is being established and administered by the Bureau of Land Management. Authority for this action is found in CFR Title 43, subpart 8360.0-3 and complies with CFR Title 43, subpart 8364.1, Closure and Restriction Orders. Violation of this closure order is in accordance with CFR Title 43, subpart 4150 and CFR Title 43, subpart 8360.0-7 punishable by a fine not to exceed $1,000 and/or imprisonment not to exceed 12 months. Such violations may also be subject to the enhanced fines provided for by Title 18 U.S.C. 3571.

Mitchell A. Jaurena,
Four Rivers Associate Field Manager.

[FR Doc. 03-23444 Filed 9-12-03; 8:45 am]

BILLING CODE 4310-GG-P